DEPARTMENT OF DEFENSE

Office of the Under Secretary of Defense for Personnel and Readiness; Meeting of the Department of Defense Military Family Readiness Council (MFRC)

AGENCY: Department of Defense.

ACTION: Notice.

SUMMARY: Pursuant to Section 10(a), Public Law 92-463, as amended, notice is hereby given of a forthcoming meeting of the Department of Defense Military Family Readiness Council (MFRC). The purpose of the Council meeting is to review the military family programs which will be the focus for the Council for next year, review the status of warrior care, and address selected concerns of military family organizations.

The meeting is open to the public, subject to the availability of space. Persons desiring to attend may contact Ms. Melody McDonald at 571-256-1738 or e-mail FamilyReadinessCouncil@osd.mil no later than 5 p.m. on Friday, 10 December 2010 to arrange for parking and escort into the conference room inside the Pentagon.

Interested persons may submit a written statement for consideration by the Council. Persons desiring to submit a written statement to the Council must notify the point of contact listed below no later than 5 p.m., Wednesday, 8 December 2010.

Due to internal DoD difficulties, beyond the control of the Department of Defense Military Family Readiness Council or its Designated Federal Officer, the Government was unable to process the Federal Register notice for the December 14, 2010 meeting of the Department of Defense Military Family Readiness Council as required by 41 CFR 102-3.150(a). Accordingly, the Committee Management Officer for the Department of Defense, pursuant to 41 CFR 102-3.150(b), waives the 15-calendar day notification requirement.

DATES: 14 December 2010, 2-3 p.m.

Location: Pentagon Conference Center B1 (escorts will be provided from the Pentagon Metro entrance).

FOR FURTHER INFORMATION CONTACT: Ms. Melody McDonald or Ms. Betsy Graham, Office of the Deputy Under Secretary (Military Community & Family Policy), 4000 Defense Pentagon, Room 2E319, Washington, DC 20301-4000. Telephones (571) 256-1738; (703) 697-9283 and/or e-mail: FamilyReadinessCouncil@osd.mil.

SUPPLEMENTARY INFORMATION: Meeting agenda.

Tuesday, 14 December 2010

Welcome & Administrative Remarks.

Review and Comment on Council Action from November meeting.

Follow-up on Council's FY2009 Recommendations.

Discussion of Assessment Process.

Intentions for the 2011 activities and meetings.

Selection of priority areas to monitor during 2011.

Support for Families of Wounded Warriors.

Closing Remarks.

Note: Exact order may vary.

Dated: November 30, 2010.
Morgan F. Park,
Alternate OSD Federal Register Liaison Officer, Department of Defense.

[FR Doc. 2010-30719 Filed 12-7-10; 8:45 am]

BILLING CODE 5001-06-P